DEPARTMENT OF HOMELAND SECURITY

Coast Guard

46 CFR Parts 30, 150, and 153

[Docket No. USCG-2013-0423]

RIN 1625-AB94

2012 Liquid Chemical Categorization Updates

AGENCY: Coast Guard, DHS.

ACTION: Interim rule; delay of effective date.

SUMMARY: The Coast Guard is delaying the effective date of this interim rule by four months, to give the public additional time in advance of implementing the interim rule. The interim rule updates and revises regulatory tables that list liquid hazardous materials, liquefied gases, and compressed gases that have been approved for maritime transportation in bulk, and that indicate how each substance's pollution potential has been categorized. The interim rule provides new information about approved substances and their categorizations, but would not change which substances are approved or how each substance is categorized. Updated information is of value to shippers and to the owners and operators of U.S.-flag tank and bulk cargo vessels in any waters and most foreign-flag tank and oceangoing bulk cargo vessels in U.S. waters. This interim rule promotes the Coast Guard's maritime safety and stewardship missions.

DATES: The effective date of the interim rule published at 78 FR 50147, August 16, 2013, and amending 46 CFR parts 30, 150, and 153 is delayed from September 16, 2013 until January 16, 2014.

FOR FURTHER INFORMATION CONTACT: If you have questions on this rule, email or call Mr. Patrick Keffler, Coast Guard; email: Patrick.A.Keffler@uscg.mil, telephone: 202-372-1424. If you have questions on viewing or submitting material to the docket, call Barbara Hairston, Program Manager, Docket Operations, telephone 202-366-9826.

Dated: September 10, 2013.
J.G. Lantz,
Director of Commercial Regulations and Standards, U.S. Coast Guard.

[FR Doc. 2013-22412 Filed 9-13-13; 8:45 am]

BILLING CODE 9110-04-P